DEPARTMENT OF DEFENSE

Office of the Secretary of Defense

Defense Business Board (DBB)

AGENCY: DoD.

ACTION: Meeting notice; correction.

The Department of Defense is correcting a meeting notice that appeared on March 21, 2008 (72 FR 11095). The document corrects the e-mail address for the FOR FURTHER INFORMATION CONTACT.

DATES: This action is effective March 21, 2008.

Correction

In the Federal Register of March 21, 2008, in FR Doc. E8-5739 on page 15144, correct the FOR FURTHER INFORMATION CONTACT e-mail address to read as follows: linda.clay.ctr@osd.mil.

Dated: March 24, 2008.
L.M. Bynum,
Alternate OSD Federal Register Liaison Officer, Department of Defense.

[FR Doc. E8-6526 Filed 3-28-08; 8:45 am]

BILLING CODE 5001-06-P